NATIONAL AERONAUTICS AND SPACE ADMINISTRATION

[Notice (03-086)]

NASA Advisory Council, Biological and Physical Research Advisory Committee Audio Teleconference

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee.

DATES: Thursday, August 14, 2003, from 11 a.m. until 1 p.m.

ADDRESSES: NASA Headquarters, 300 E Street SW., Room 8E26, Washington, DC 20546.

FOR FURTHER INFORMATION CONTACT: Dr. Bradley Carpenter, Code UG, National Aeronautics and Space Administration, Washington, DC 20546, 202/358-0826.

SUPPLEMENTARY INFORMATION: The meeting will be open to the public up to the seating capability of the meeting room. Due to the increased security at NASA facilities, any members of the public who wish to attend this meeting of the Biological and Physical Research Advisory Committee must provide their name, date and place of birth, citizenship, social security number, or passport and visa information (number, country of issuance and expiration), business address and phone number, if any. This information is to be provided at least 72 hours (11 a.m. EDT on August 11, 2003) prior to the date of the public meeting. Identification information is to be provided to Dr. Bradley Carpenter at 202/358-0826 or via e-mail at bcarpenter@hq.nasa.gov. Failure to timely provide such information may result in denial of attendance. Photo identification may be required for entry into the building. Persons with disabilities who require assistance should indicate this in their message. Due to limited availability of seating, members of the public will be admitted on a first-come, first-serve basis. News media wishing to attend the meeting should follow standard accreditation procedures. Members of the press who have questions about these procedures should contact the NASA Headquarters newsroom (202/358-1600). The agenda for the meeting is as follows:

• Performance Measures

It is imperative that the meeting be held on this date to accommodate the scheduling priorities of the key participants. Visitors will be requested to sign a visitor's register.

June W. Edwards,
Advisory Committee Management Officer, National Aeronautics and Space Administration.

[FR Doc. 03-19370 Filed 7-29-03; 8:45 am]

BILLING CODE 7510-01-P